DEPARTMENT OF JUSTICE

Parole Commission

Public Announcement; Pursuant to the Government in the Sunshine Act (Pub. L. 94-409) [5 U.S.C. 552b]

AGENCY HOLDING MEETING: Department of Justice, United States Parole Commission.

TIME AND DATE: 10:30 a.m., Monday, November 8, 2004.

PLACE: 5550 Friendship Boulevard, 4th Floor, Chevy Chase, Maryland 20815.

STATUS: Open.

MATTERS TO BE CONSIDERED: The meeting is being held to discuss and vote on rule amendments that would extend an administrative appeal procedure to revoked District of Columbia parolees and allow revocation decisions for such parolees to be made, in most cases, by one Parole Commissioner.

AGENCY CONTACT: Pamela Posch, Office of the General Counsel, United States Parole Commission, (301) 492-5959.

Dated: October 27, 2004.
Rockne Chickinell,
General Counsel, United States Parole Commission.

[FR Doc. 04-24384 Filed 10-28-04; 9:48 am]

BILLING CODE 4410-10-M